DEPARTMENT OF TRANSPORTATION

Federal Aviation Administration

14 CFR Part 39

[Docket No. FAA-2025-0005; Project Identifier AD-2024-00646-T; Amendment 39-23051; AD 2025-11-05]

RIN 2120-AA64

Airworthiness Directives; the Boeing Company Airplanes

AGENCY: Federal Aviation Administration (FAA), DOT.

ACTION: Final rule.

SUMMARY: The FAA is adopting a new airworthiness directive (AD) for certain The Boeing Company Model 787-8, 787-9, and 787-10 airplanes. This AD was prompted by reports of multiple supplier notices of escapement (NOEs) indicating that seat track splice fittings were possibly manufactured with an incorrect titanium alloy material. This AD requires an inspection of seat track splice fittings to determine the material and applicable on-condition actions. The FAA is issuing this AD to address the unsafe condition on these products.

DATES: This AD is effective July 8, 2025.

The Director of the Federal Register approved the incorporation by reference of a certain publication listed in this AD as of July 8, 2025.

ADDRESSES:

AD Docket: You may examine the AD docket at regulations.gov under Docket No. FAA-2025-0005; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110 SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-0005.

FOR FURTHER INFORMATION CONTACT: Joseph Hodgin, Aviation Safety Engineer, FAA, 2200 South 216th St., Des Moines, WA 98198; phone: 206-231-3962; email: Joseph.J.Hodgin@faa.gov.

SUPPLEMENTARY INFORMATION:

Background

The FAA issued a notice of proposed rulemaking (NPRM) to amend 14 CFR part 39 by adding an AD that would apply to certain The Boeing Company Model 787-8, 787-9, and 787-10 airplanes. The NPRM was published in the Federal Register on January 17, 2025 (90 FR 5756). The NPRM was prompted by reports of multiple supplier NOEs indicating that seat track splice fittings were possibly manufactured with an incorrect titanium alloy material. In the NPRM, the FAA proposed to require an inspection of seat track splice fittings to determine the material and applicable on-condition actions. The FAA is issuing this AD to address seat track splice fittings manufactured with an incorrect titanium alloy material. The unsafe condition, if not addressed, could result in failure of the seat track splice fittings, and could result in serious injury to seated occupants as a result of adverse effects on emergency egress and structural capability to react to emergency landing loads.

Discussion of Final Airworthiness Directive

Comments

The FAA received comments from four anonymous commenters who supported the NPRM without change.

The FAA received additional comments from three commenters, including Boeing, Air New Zealand, and the Foundation for Aviation Safety. The following presents the comments received on the NPRM and the FAA's response to each comment.

Request for Clarification of Root Cause

The Foundation for Aviation Safety requested an explanation of the root cause of the use of the incorrect titanium alloy material, asked how its use was discovered and why the original process wasn't effective in identifying use of the incorrect material, and clarification on the preventive measures to keep this from happening again.

The FAA provides the following clarification. Boeing and the FAA have received reports of multiple supplier NOEs indicating that seat track splice fittings were possibly manufactured with an incorrect titanium alloy material. The FAA has determined the actions specified in this AD must be done to address the unsafe condition. The root cause of the use of the incorrect titanium alloy material is still under investigation. The FAA is working with Boeing to address the root cause. No change to this AD is necessary as a result of this comment.

Request To Add Exception

Boeing and Air New Zealand requested an exception be added to the proposed AD to allow use of collars having part number (P/N) BACC30BS10K for tasks 17 and 18 of Boeing Alert Requirements Bulletin B787-81205-SB530086-00 RB, Issue 001, dated October 18, 2024. Air New Zealand stated tasks 17 and 18 of Boeing Alert Requirements Bulletin B787-81205-SB530086-00 RB, Issue 001, dated October 18, 2024, and Boeing Alert Service Bulletin B787-81205-SB530086-00, Issue 001, dated October 18, 2024, use collars having P/N BACC30BS10S. Air New Zealand further pointed out that table 18 of paragraph 3.A., Kits/Parts, of Boeing Alert Service Bulletin B787-81205-SB530086-00, Issue 001, dated October 18, 2024, lists collars having P/N BACC30BS10K for tasks 17 and 18. Boeing confirmed that both collars are structurally and functionally equivalent at these locations.

The FAA agrees with this request for the reasons provided. Paragraph (h) of the proposed AD has been reidentified as paragraph (h)(1) in this AD and paragraph (h)(2) has been added to this AD to provide the exception to allow P/N BACC30BS10K.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Boeing Alert Requirements Bulletin B787-81205-SB530086-00 RB, Issue 001, dated October 18, 2024. This material specifies procedures for an X-ray fluorescence spectrometer inspection or a high frequency eddy current inspection of seat track splice fittings to determine the material and applicable on-condition actions. On-condition actions include replacing affected seat track splice fittings with new seat track splice fittings at affected locations. This material is reasonably available because the interested parties have access to it through their normal course of business or by the means identified in the ADDRESSES section.

Costs of Compliance

The FAA estimates that this AD affects 37 airplanes of U.S. registry. The FAA estimates the following costs to comply with this AD:

Estimated Costs
Action | Labor cost | Parts cost | Cost per product | Cost on U.S. operators
Inspection | 16 work-hours × $85 per hour = $1,360 | $0 | $1,360 | $50,320

The FAA estimates the following costs to do any necessary replacements that would be required based on the results of the required inspection. The agency has no way of determining the number of aircraft that might need this replacement:

On-Condition Costs
Action | Labor cost | Parts cost | Cost per product
Replacement | Up to 20 work-hours × $85 per hour = $1,700 | Up to $4,140 | Up to $5,840 (per location, up to 20 locations per airplane).

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-11-05 The Boeing Company: Amendment 39-23051; Docket No. FAA-2025-0005; Project Identifier AD-2024-00646-T.

(a) Effective Date

This airworthiness directive (AD) is effective July 8, 2025.

(b) Affected ADs

None.

(c) Applicability

This AD applies to The Boeing Company Model 787-8, 787-9, and 787-10 airplanes, certificated in any category, as identified in Boeing Alert Requirements Bulletin B787-81205-SB530086-00 RB, Issue 001, dated October 18, 2024.

(d) Subject

Air Transport Association (ATA) of America Code 53, Fuselage.

(e) Unsafe Condition

This AD was prompted by reports of multiple supplier notices of escapement (NOEs) indicating that seat track splice fittings were possibly manufactured with an incorrect titanium alloy material. The unsafe condition, if not addressed, could result in failure of the seat track splice fittings, and could result in serious injury to seated occupants as a result of adverse effects on emergency egress and structural capability to react to emergency landing loads.

(f) Compliance

Comply with this AD within the compliance times specified, unless already done.

(g) Required Actions

Except as specified by paragraph (h) of this AD: At the applicable times specified in the “Compliance” paragraph of Boeing Alert Requirements Bulletin B787-81205-SB530086-00 RB, Issue 001, dated October 18, 2024, do all applicable actions identified in, and in accordance with, the Accomplishment Instructions of Boeing Alert Requirements Bulletin B787-81205-SB530086-00 RB, Issue 001, dated October 18, 2024.

Note 1 to paragraph (g): Guidance for accomplishing the actions required by this AD can be found in Boeing Alert Service Bulletin B787-81205-SB530086-00, Issue 001, dated October 18, 2024, which is referred to in Boeing Alert Requirements Bulletin B787-81205-SB530086-00 RB, Issue 001, dated October 18, 2024.

(h) Exceptions to Requirements Bulletin Specifications

(1) Where the Compliance Time column of the table in the “Compliance” paragraph of Boeing Alert Requirements Bulletin B787-81205-SB530086-00 RB, Issue 001, dated October 18, 2024, refers to the Issue 001 date of Requirements Bulletin B787-81205-SB530086-00 RB, this AD requires using the effective date of this AD.

(2) Where table 1 of task 17 and task 18 of Boeing Alert Requirements Bulletin B787-81205-SB530086-00 RB, Issue 001, dated October 18, 2024, specifies collars having a part number (P/N) of “BACC30BS10S”, this AD requires replacing that text with “BACC30BS10S or BACC30BS10K”.

(i) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(j) Related Information

(1) For more information about this AD, contact Joseph Hodgin, Aviation Safety Engineer, FAA, 2200 South 216th St., Des Moines, WA 98198; phone: 206-231-3962; email: Joseph.J.Hodgin@faa.gov.

(2) Material identified in this AD that is not incorporated by reference is available at the address specified in paragraph (k)(3) of this AD.

(k) Material Incorporated by Reference

(1) The Director of the Federal Register approved the incorporation by reference of the material listed in this paragraph under 5 U.S.C. 552(a) and 1 CFR part 51.

(2) You must use this material as applicable to do the actions required by this AD, unless the AD specifies otherwise.

(i) Boeing Alert Requirements Bulletin B787-81205-SB530086-00 RB, Issue 001, dated October 18, 2024.

(ii) [Reserved]

(3) For the material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on May 21, 2025.
Peter A. White,
Deputy Director, Integrated Certificate Management Division, Aircraft Certification Service.

[FR Doc. 2025-10061 Filed 6-2-25; 8:45 am]

BILLING CODE 4910-13-P